DEPARTMENT OF THE INTERIOR

Fish and Wildlife Service

Notice of intent To Prepare an Environmental Impact Statement (EIS) Related to the Horseshoe and Bartlett Habitat Conservation Plan (HCP) by the Salt River Project in Arizona

AGENCY: Fish and Wildlife Service, Interior.

ACTION: Notice of intent; notice of public scoping meeting.

SUMMARY: Pursuant to the National Environmental Policy Act (NEPA), this notice advises the public that the U.S. Fish and Wildlife Service (Service) intends to prepare an EIS to evaluate the impacts of and alternatives to the issuance of an incidental take permit (ITP), pursuant to section 10(a)(1)(B) of the Endangered Species Act of 1973, as amended (Act), to the Salt River Project (SRP). SRP proposes to apply for an ITP, through development and implementation of the HCP, as required by the Act. The HCP will provide the measures to minimize and mitigate the impacts of the proposed taking of listed and sensitive species and the habitats upon which they depend.

DATES: We must receive written comments on alternatives and issues to be addressed in the EIS are requested by August 15, 2003. We will hold a public scoping meeting on July 15, 2003, from 6 p.m. to 8 p.m. at the offices of the Salt River Project. We will accept oral and written comments at this meeting.

ADDRESSES: Send written comments to Mr. Steve Spangle, Field Supervisor, U.S. Fish and Wildlife Service, 2321 West Royal Palm Road, Suite 103, Phoenix, AZ 85021. The public scoping meeting will take place at the offices of the Salt River Project, 1521 Project Drive, Tempe, Arizona.

FOR FURTHER INFORMATION CONTACT: For further information on the EIS, contact Ms. Debra Bills, Arizona State Office, U.S. Fish and Wildlife Service, 2321 West Royal Palm Road, Suite 103, Phoenix, AZ 85021 at 602/242-0210.

For further information on the HCP, contact Ms. Ruth Valencia, Senior Environmental Scientist, Salt River Project, P.O. Box 52025, PAB352, Phoenix, AZ 85072-2025 at 602/236-2830, or Mr. Craig Sommers, President, ERO Resources Corporation, 1842 Clarkson Street, Denver, CO 80218 at (303) 830-1188.

SUPPLEMENTARY INFORMATION: This notice advises the public that the Service intends to gather information necessary to determine impacts and formulate alternatives for the EIS related to the potential issuance of an ITP to SRP and the development and implementation of the HCP, which will provide measures to minimize and mitigate the effects of the incidental take of federally listed species.

Background: Horseshoe Dam and Reservoir and Bartlett Dam and Reservoir (Horseshoe and Bartlett) are operated by SRP on the Verde River in central Arizona. SRP operates Horseshoe and Bartlett in conjunction with four reservoirs on the Salt River as integral features of the Salt River Reclamation Project (Project), authorized by the Reclamation Act of 1902, 43 U.S.C. 371 et seq. SRP's reservoirs impound runoff from a 13,000-square mile watershed in central Arizona. The water stored in these six reservoirs is delivered via SRP canals, laterals, and pipelines to municipal, industrial, and agricultural water users in the Phoenix metropolitan area.

SRP reservoirs supply water to the cities of Phoenix, Mesa, Chandler, Tempe, Glendale, Gilbert, Scottsdale, Tolleson, Peoria, and Avondale. Water from SRP reservoirs is also used within the Project for the irrigation of agricultural lands and for other purposes. Additionally, water from SRP reservoirs is delivered to the Salt River Pima-Maricopa Indian Community, Fort McDowell Indian Community, Gila River Indian Community, Buckeye Irrigation Company, Roosevelt Irrigation District, Roosevelt Water Conservation District, and others.

Horseshoe and Bartlett were constructed during the 1930s and 1940s. SRP operates Horseshoe and Bartlett pursuant to contracts with the United States and others dated 1917, 1935, 1946, 1948, 1988 and 1993. Like the four other reservoirs in SRP's system, Horseshoe and Bartlett supply water to lands within the Phoenix metropolitan area for irrigation, municipal, and other purposes. Horseshoe and Bartlett also provide a variety of recreational uses and environmental benefits in central Arizona.

Due to dry conditions in central Arizona for the past several years, the reservoir level behind Horseshoe and Bartlett dams has been below normal. As a result, riparian trees and shrubs have grown in the Horseshoe storage space. Wildlife that use riparian habitat have followed the vegetation growth and now occupy areas within the reservoir. In particular, a population of southwestern willow flycatchers (Empidonax traillii extimus), which is listed as endangered under the Act, was found in habitat within the storage space at Horseshoe and along the Verde River below the reservoir in 2002. Thus, periodic refilling of the reservoir may adversely affect the habitat and nesting of the southwestern willow flycatcher and other sensitive species.

Purpose and Need for Action: Section 9 of the Act prohibits the “taking” of threatened and endangered species. The Service may, however, under limited circumstances, issue permits to take federally listed and candidate species, when such a taking is incidental to, and not the purpose of, otherwise lawful activities. Regulations governing permits for endangered species are at 50 CFR 17.22. The term “take” under the Act means to harass, harm, pursue, hunt, shoot, wound, kill, trap, capture, or collect, or attempt to engage in any such conduct. The application for an ITP will seek approval for incidental take of named species associated with SRP's operation of Horseshoe and Bartlett, consistent with their purpose as water storage facilities.

Section 10(a)(1)(B) of the Act and regulations at 50 CFR 17.32 contain provisions for issuing ITPs to non-federal entities for the take of endangered and threatened species, provided the Service determines the following criteria are met:

1. The taking will be incidental;

2. The applicant will, to the maximum extent practicable, minimize and mitigate the impacts of such taking;

3. The applicant will develop an HCP and ensure that adequate funding for the HCP will be provided;

4. The taking will not appreciably reduce the likelihood of the survival and recovery of the species in the wild; and

5. Any other measures that the Service may require as being necessary or appropriate for the purposes of the HCP to be met.

Proposed Action: The proposed action by the Service is the issuance of an ITP for listed and sensitive species for SRP's operation of Horseshoe and Bartlett, pursuant to section 10(a)(1)(B) of the Act. SRP will develop and implement the HCP, as required by section 10(a)(1)(B) of the Act. The HCP will provide measures to minimize and mitigate the impacts of the proposed taking of listed and sensitive species and the habitats upon which they depend. The biological goal of the HCP is to ensure that any take of listed species will not appreciably reduce the likelihood of the survival and recovery of the species in the wild.

The ITP, if issued, would enable SRP to continue the operation of Horseshoe and Bartlett to store and release water, and to perform associated activities.

SRP is expected to apply for an ITP for the following federally listed and candidate species: the endangered southwestern willow flycatcher and razorback sucker (Xyrauchen texanus), the threatened bald eagle (Haliaeetus leucocephalus), and the candidate yellow-billed cuckoo (Coccyzus americanus), should it be listed in the future.

SRP is also seeking to cover any other rare and/or sensitive species that may be affected by SRP's operation of Horseshoe and Bartlett. The ITP would take effect for unlisted species that are adequately covered by the HCP upon listing of such species as threatened or endangered by the Service. Other listed species for which SRP is not seeking permit coverage may also benefit from the conservation measures provided in the HCP.

Alternatives: Alternatives currently being considered by the Service include the following:

1. Proposed Action by the Service—Issuance of an ITP by the Service authorizing the operation of the full capacity of Horseshoe and Bartlett by SRP, possibly with modified operating goals, along with implementation of the HCP involving measures to minimize and mitigate the impacts of incidental take of federally listed and candidate species.

2. No Action by the Service—No issuance of an ITP by the Service; this would require SRP to do everything within its control to avoid any take of federally listed species associated with its operation of Horseshoe and Bartlett.

3. Other Section 10 Alternatives—Issuance of an ITP by the Service for an HCP involving the operation of Horseshoe and Bartlett under various combinations of storage capacity and operating goals, along with additional measures to minimize and mitigate the impacts of potential take of federally listed and candidate species. It is anticipated that the EIS will consider one or two alternatives of reservoir capacity and operation in addition to the Proposed Action and the No Action alternatives.

Additional Information: The Service anticipates that SRP will request a permit duration of 50 years. Implementation of the HCP will result in the establishment of measures that will provide for the conservation of covered species and their habitats in perpetuity. Research and monitoring, in combination with adaptive management, will be used to facilitate accomplishment of these measures.

The Service will conduct an environmental review that analyzes the proposed action, as well as a range of reasonable alternatives and the associated impact of each. The EIS will be the basis for the Service's evaluation of impacts to the species and to the environment, including the range of alternatives to be evaluated. The EIS is expected to provide biological descriptions of species and habitats as well as the effects of the proposed action on: vegetation, wetlands, wildlife, threatened or endangered species and species of concern, geology and soils, visual resources, air quality, water resources, flood control, water quality, archaeology, historic structures, traditional cultural properties, land use, recreation, water use, local economy, and environmental justice.

Comments and suggestions are invited from all interested parties to ensure that a range of issues and alternatives related to the proposed action are identified. The review of this project will be conducted according to the requirements of NEPA (42 U.S.C. 4321 et seq.), NEPA Regulations (40 CFR parts 1500-1508), and other appropriate federal laws, regulations, policies, and guidance. Written comments received by the Service become part of the public record associated with this action. Those comments, as well as the names and addresses of commenters, may be disclosed under the Freedom of Information Act unless a commenter gives a privacy or other exemption justification.

Related Project Documentation: It is anticipated that the EIS process will make full use (including incorporation by reference, as appropriate, pursuant to NEPA) of documents prepared by other entities regarding the environmental and socioeconomic issues in the project area, copies of which will be available for public inspection, by appointment, at the office of Ms. Ruth Valencia, Senior Environmental Scientist, Salt River Project, PO Box 52025, PAB352, Phoenix, AZ 85072-2025 at (602) 236-2830.

After the environmental review is completed, the Service will publish a notice of availability and a request for comment on the draft EIS and SRP's permit application, which will include the draft HCP.

The draft EIS is expected to be completed by February 2004.

Bryan Arroyo,
Acting Regional Director, Southwest Region, Albuquerque, New Mexico.

[FR Doc. 03-15457 Filed 6-18-03; 8:45 am]

BILLING CODE 4510-55-P